DEPARTMENT OF HEALTH AND HUMAN SERVICES

National Institutes of Health

Report on Carcinogens Webinar on Trichloroethylene; Notice of Public Webinar and Registration Information

SUMMARY: The National Toxicology Program (NTP) announces a public webinar, “Human Cancer Studies on Exposure to Trichloroethylene (TCE): Methods Used To Assess Exposure and Cancer Outcomes.” The Office of the Report on Carcinogens (ORoC), Division of the NTP (DNTP), National Institute of Environmental Health Sciences (NIEHS) will hold the webinar using Adobe® Connect™, and the public can register to attend.

DATES:

Webinar: March 17, 2014, 9:00 a.m. to approximately 1:00 p.m. Eastern Daylight Time (EDT).

Registration for Webinar: February 6, 2014 through March 13, 2014.

Availability of Webinar Materials: March 3, 2014.

ADDRESSES: Webinar Web page: http://ntp.niehs.nih.gov/go/tcewebinar.

FOR FURTHER INFORMATION CONTACT: Dr. Ruth M. Lunn, Director, ORoC, DNTP, NIEHS, P.O. Box 12233, MD K2-14, Research Triangle Park, NC 27709. Phone: (919) 316-4637; Fax: (301) 480-2970, Email: lunn@niehs.nih.gov. Hand Delivery/Courier: 530 Davis Drive, Room 2138, Morrisville, NC 27560.

SUPPLEMENTARY INFORMATION:

Background: The Report on Carcinogens (RoC) is a congressionally mandated, science-based, public health report that identifies agents, substances, mixtures, or exposures (collectively called “substances”) in our environment that are cancer hazards for people living in the United States. The NTP prepares the RoC on behalf of the Secretary of Health and Human Services following an established, four-part process (http://ntp.niehs.nih.gov/go/rocprocess) and using established criteria (http://ntp.niehs.nih.gov/go/15209).

Trichloroethylene (TCE) is a chlorinated alkene used primarily as a metal degreaser and is currently listed as reasonably anticipated to be a human carcinogen in the RoC. The NTP selected TCE for re-review for possible change in listing status in the RoC following solicitation of public comment and review by the NTP Board of Scientific Counselors on June 21-22, 2012 (http://ntp.niehs.nih.gov/go/9741) (for more information on the status of the NTP review of TCE see http://ntp.niehs.nih.gov/go/37899).

The purpose of this webinar is (1) to obtain external scientific input, focusing on issues related to the assessment of information (exposure and cancer outcomes) in epidemiologic studies of TCE, which will be used to inform the NTP's evaluation of the level of evidence from human cancer studies of TCE exposure, and (2) to obtain public input on the protocol for preparation of the draft RoC monograph on TCE. The first part of the webinar will consist of three presentations, with a short question-and-answer period after each presentation, followed by a general discussion session on scientific issues across all presentations. The goals of the individual presentations are (1) to address the adequacy of methods used in the epidemiologic studies to assess exposure and cancer outcomes (primarily lymphohematopoietic cancers), (2) to discuss and compare reported or estimated exposure levels or exposure prevalence across studies, (3) to discuss how this information (e.g., data from TCE exposure assessments, quality of exposure assessment, TCE exposure levels or prevalence, classification of non-Hodgkin lymphoma) is used in the epidemiologic studies and can be used to inform the cancer evaluation across studies. The second part of the webinar will be a discussion session when the public can either make comments on or ask questions about the proposed protocol for preparation of the draft RoC monograph on TCE (http://ntp.niehs.nih.gov/NTP/roc/thirteenth/Protocols/TCE_Protocol12-31-13_508.pdf).

Webinar and Registration: The webinar is scheduled for March 17, 2014, from 9:00 a.m. to approximately 1 p.m. EDT. The webinar may end early if the presentations and discussions are finished. Registration for the webinar is required and is open from February 6, 2014 through March 13, 2014, at http://ntp.niehs.nih.gov/go/pcpwebinar. Registrants will receive instructions by email on accessing the webinar (via Adobe® Connect™) on or before March 14, 2014.

The preliminary agenda, list of speakers, and abstracts of the presentations should be posted on the NTP Web site (http://ntp.niehs.nih.gov/go/tcewebinar) by March 3, 2014. Registrants are encouraged to access the webinar Web page to stay abreast of the most current information regarding this event. Any updates will be posted to the Web page. The protocol for preparing the draft RoC monograph on TCE is available on the RoC Web site for TCE (http://ntp.niehs.nih.gov/go/37899).

Public Participation: As noted above, the meeting format includes time after each presentation and during the two discussion sessions for the public to ask questions or make brief remarks. Instructions for public access and participation in the meeting via Adobe® Connect™ will be emailed to registered attendees. Individuals with disabilities who need accommodation to participate in this event should contact Dr. Lunn (see FOR FURTHER INFORMATION CONTACT). TTY users should contact the Federal TTY Relay Service at 800-877-8339. Requests should be made at least five business days in advance of the event.

Background Information on the RoC: Published biennially, each edition of the RoC is cumulative and consists of substances newly reviewed in addition to those listed in previous editions. The 12th RoC, the latest edition, was published on June 10, 2011 (available at http://ntp.niehs.nih.gov/go/roc12). The 13th RoC is under development.

Dated: January 31, 2014.
John R. Bucher,
Associate Director, National Toxicology Program.

[FR Doc. 2014-02455 Filed 2-5-14; 8:45 am]

BILLING CODE 4140-01-P